DEPARTMENT OF COMMERCE

National Telecommunications and Information Administration

International Trade Administration

Information Privacy and Innovation in the Internet Economy

AGENCIES: National Telecommunications and Information Administration, U.S. Department of Commerce; and International Trade Administration, U.S. Department of Commerce.

ACTION: Notice of Public Meeting.

Summary: The National Telecommunications and Information Administration (NTIA) and the International Trade Administration (ITA), on behalf of the U.S. Department of Commerce (Department), will hold a public meeting on May 7, 2010, to discuss the nexus between privacy policy and innovation in the Internet economy.

DATES: The meeting will be held on May 7, 2010, from 9:00 a.m. to 3:00 p.m., Eastern Daylight Time. Registration will start at 8:30 a.m.

ADDRESSES: The meeting will be held in the Polaris Room of the Ronald Reagan International Trade Center, 1300 Pennsylvania Avenue, NW, Washington, DC 20001. Please enter at the main entrance on 14th Street. All of the major entrances to the building are accessible to people with disabilities.

FOR FURTHER INFORMATION CONTACT: For further information regarding the meeting, contact Manu Bhardwaj by email at mbhardwaj@ntia.doc.gov or by phone at (202) 482-1840.

SUPPLEMENTARY INFORMATION: Recognizing the vital importance of the Internet to U.S. innovation, prosperity, education, and political and cultural life, the Department has made it a top priority to ensure that the Internet remains open for innovation. The Department has assembled a newly created Internet Policy Task Force (Task Force) whose mission is to identify leading public policy and operational challenges in the Internet environment. The Task Force leverages expertise across many bureaus, including those responsible for domestic and international information and communications technology policy, international trade, cybersecurity standards and best practices, intellectual property, business advocacy, and export control.

As part of the Task Force, NTIA and ITA are conducting a comprehensive review of the nexus between privacy policy and innovation in the Internet economy, which will include the issuance of a notice of inquiry. To facilitate the review, on May 7, 2010, NTIA will hold a public meeting to discuss stakeholder views and to facilitate further public discussion on privacy policy in the United States. The event will seek participation and comment from all Internet stakeholders, including the commercial, academic, and civil society sectors, on the impact of current privacy laws in the United States and around the world on the pace of innovation in the information economy. A discussion of whether current privacy laws serve consumer interests and fundamental democratic values is also anticipated.

The agenda for the public meeting will be posted on NTIA’s website at least one week prior to the meeting. This meeting will be webcast. The agenda and webcast information will be available on NTIA’s website at www.ntia.doc.gov. Secretary of Commerce Gary Locke is scheduled to deliver keynote remarks. Also participating with remarks will be NTIA’s Administrator and Assistant Secretary Lawrence Strickling, the Department of Commerce's General Counsel Cameron Kerry, and other U.S. Government officials.

The meeting will be open to members of the public on a first-come, first-served basis. The meeting will be physically accessible to people with disabilities. Individuals requiring accommodation services, such as sign language interpretation or other ancillary aids, should communicate their needs to Manu Bhardwaj at least two (2) days prior to the meeting. Attendees should arrive at least one-half hour prior to the start of the meeting and must present a valid passport or other photo identification upon arrival. Members of the public will have an opportunity to ask questions at the meeting.

Dated: April 12, 2010.
Lawrence E. Strickling,
Assistant Secretary for Communications and Information.
Francisco J. Sanchez,
Under Secretary of Commerce for International Trade.

[FR Doc. 2010-8681 Filed 4-15-10; 8:45 am]

BILLING CODE 3510-60-S; 3510-D-S